FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011733-020.

Title: Common Ocean Carrier Platform Agreement.

Parties: A.P. Moller-Maersk A/S; CMA CGM; Hamburg-Süd; Hapag-Lloyd AG; Mediterranean Shipping Company S.A.; and United Arab Shipping Company (S.A.G.) as shareholder parties, and Alianca Navegacao e Logistica Ltda.; Kawasaki Kisen Kaisha Ltd.; MISC Berhad; Mitsui O.S.K. lines Ltd.; Nippon Yusen Kaisha; Safmarine Container Lines N.V.; Senator Lines GmbH; Compania Sud Americana de Vapores, S.A.; Companhia Libra Navegacao; Norasia Container Lines Limited; Tasman Orient Line C.V.; and Emirates Shipping Lines as non-shareholder parties.

Filing Party: Mark J. Fink, Esq.; Sher & Blackwell LLP; 1850 M Street, NW., Suite 900; Washington, DC 20036.

Synopsis: The amendment adds Emirates Shipping Lines as a non-shareholder party to the agreement.

Agreement No.: 011988.

Title: EUKOR/WWL Mexico Space Charter Agreement.

Parties: EUKOR Car Carriers, Inc. (“EUKOR”) and Wallenius Wilhelmsen Logistics AS (“WWL”).

Filing Party: Wayne R. Rohde, Esq.; Sher & Blackwell LLP; 1850 M Street, NW., Suite 900; Washington, DC 20036.

Synopsis: The agreement authorizes EUKOR to charter space to WWL for the carriage of ro-ro and other non-containerized cargo in the trade from Mexico to the United States.

Dated: February 23, 2007.
By Order of the Federal Maritime Commission.
Bryant L. VanBrakle,
Secretary.

[FR Doc. E7-3506 Filed 2-27-07; 8:45 am]

BILLING CODE 6730-01-P